DEPARTMENT OF TRANSPORTATION

Federal Motor Carrier Safety Administration

[Docket No. FMCSA-2010-0114]

Qualification of Drivers; Exemption Applications; Vision

AGENCY: Federal Motor Carrier Safety Administration (FMCSA), DOT.

ACTION: Notice of applications for exemptions; request for comments.

SUMMARY: FMCSA announces receipt of applications from 30 individuals for exemption from the vision requirement in the Federal Motor Carrier Safety Regulations. If granted, the exemptions would enable these individuals to qualify as drivers of commercial motor vehicles (CMVs) in interstate commerce without meeting the Federal vision standard.

DATES: Comments must be received on or before July 16, 2010.

ADDRESSES: You may submit comments bearing the Federal Docket Management System (FDMS) Docket No. FMCSA-2010-0114 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Instructions: Each submission must include the Agency name and the docket numbers for this Notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgment page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://www.regulations.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption from the Federal Motor Carrier Safety Regulations for a 2-year period if it finds “such exemption would likely achieve a level of safety that is equivalent to, or greater than, the level that would be achieved absent such exemption.” FMCSA can renew exemptions at the end of each 2-year period. The 30 individuals listed in this Notice have each requested such an exemption from the vision requirement in 49 CFR 391.41(b)(10), which applies to drivers of CMVs in interstate commerce. Accordingly, the Agency will evaluate the qualifications of each applicant to determine whether granting an exemption will achieve the required level of safety mandated by statute.

Qualifications of Applicants

David E. Balboni

Mr. Balboni, age 41, has had amblyopia in his right eye since birth. The best corrected visual acuity in his right eye is 20/400 and in his left eye, 20/20. Following an examination in 2010, his ophthalmologist noted, “This small limitation of his central field in the right eye should not in any way impair his ability to drive a commercial vehicle.” Mr. Balboni reported that he has driven straight trucks for 15 years, accumulating 750,000 miles. He holds a Class B Commercial Driver's License (CDL) from Massachusetts. His driving record for the last 3 years shows no crashes and no convictions for moving violations in a CMV.

Mark S. Berkheimer

Mr. Berkheimer, 47, has complete loss of vision in his right eye. The best corrected visual acuity in his left eye is 20/20. Following an examination in 2010, his optometrist noted, “Mr. Berkheimer has safely driven commercial vehicles for a number of years without incident. It continues to be my medical opinion that he should be able to continue to operate a commercial vehicle and be approved for an exemption.” Mr. Berkheimer reported that he has driven straight trucks for 21 years, accumulating 627,186 miles. He holds a Class A CDL from Pennsylvania. His driving record for the last 3 years shows no crashes and no convictions for moving violations in a CMV.

Rodney H. Bridges

Mr. Bridges, 39, has had amblyopia in his right eye since childhood. The best corrected visual acuity in his right eye is 20/400 and in his left eye, 20/20. Following an examination in 2009, his optometrist noted, “In my medical opinion, Mr. Bridges' vision is sufficient to perform the driving tasks to operate a commercial vehicle.” Mr. Bridges reported that he has driven straight trucks for 20 years, accumulating 700,000 miles and tractor-trailer combinations for 17 years accumulating 255,000 miles. He holds a Class A CDL from North Carolina. His driving record for the last 3 years shows no crashes and no convictions for moving violations in a CMV.

James D. Broadway

Mr. Broadway, 41, has had amblyopia in his right eye since childhood. The best corrected visual acuity in his right eye is 20/200 and in his left eye, 20/20. Following an examination in 2010, his optometrist noted, “In my opinion, Mr. Broadway is visually capable of driving safely.” Mr. Broadway reported that he has driven straight trucks for 3.5 years, accumulating 42,000 miles. He holds a Class D chauffeur's license from Louisiana. His driving record for the last 3 years shows no crashes and no convictions for moving violations in a CMV.

Wesley M. Creamer

Mr. Creamer, 46, has had glaucoma and angle recession in his left eye since childhood. The best corrected visual acuity in his right eye is 20/20 and in his left eye, 20/300. Following an examination in 2010, his optometrist noted, “I believe he has sufficient vision to perform the driving tasks to operate a commercial vehicle.” Mr. Creamer reported that he has driven straight trucks for 15 years, accumulating 75,000 miles and tractor-trailer combinations for 18 years, accumulating 270,000 miles. He holds a Class A CDL from New Mexico. His driving record for the last 3 years shows no crashes and two convictions for speeding in a CMV. In one instance, he exceeded the speed limit by 14 miles per hour (mph) and in the other by 8 mph.

Charles M. Dunn

Mr. Dunn, 46, has had macular scarring in his left eye since 1990. The best corrected visual acuity in his right eye is 20/16 and in his left eye, hand-motion vision. Following an examination in 2010, his optometrist noted, “In my medical opinion, Mr. Dunn has sufficient vision to perform the driving tasks required to operate a commercial vehicle.” Mr. Dunn reported that he has driven straight trucks for 30 years, accumulating 3 million miles. He holds a Class D operator's license from Alabama. His driving record for the last 3 years shows no crashes and no convictions for moving violations in a CMV.

Tony K. Ellis

Mr. Ellis, 57, has had optic atrophy in his right eye since 1995. The best corrected visual acuity in his right eye is 20/60 and in his left eye, 20/15. Following an examination in 2010, his ophthalmologist noted, “I believe his vision is sufficient for him to operate a commercial vehicle safely.” Mr. Ellis reported that he has driven tractor-trailer combinations for 38 years, accumulating 3.8 million miles. He holds a Class A CDL from Indiana. His driving record for the last 3 years shows no crashes and no convictions for moving violations in a CMV.

Leonard J. Ferrin

Mr. Ferrin, 25, has had retinal scarring in his left eye since age 14. The best corrected visual acuity in his right eye is 20/20 and in his left eye, 20/200. Following an examination in 2010, his optometrist noted, “In my medical opinion, Leonard has sufficient vision to perform the driving tasks required to operate a commercial vehicle.” Mr. Ferrin reported that he has driven straight trucks for 1 year, accumulating 5,000 miles and tractor-trailer combinations for 5 years, accumulating 125,000 miles. He holds a Class A CDL from Utah. His driving record for the last 3 years shows no crashes and no convictions for moving violations in a CMV.

Paul A. Giarrusso

Mr. Giarrusso, 56, has had amblyopia in his right eye since childhood. The best corrected visual acuity in his right eye is 20/200 and in his left eye, 20/20. Following an examination in 2010, his optometrist noted, “In my opinion Mr. Giarrusso has sufficient vision to perform the driving tasks required to operate a commercial vehicle.” Mr. Giarrusso reported that he has driven straight trucks for 2 years, accumulating 2,000 miles and tractor-trailer combinations for 32 years, accumulating 2 million miles. He holds a Class A CDL from Florida. His driving record for the last 3 years shows no crashes and no convictions for moving violations in a CMV.

Jerry L. Gibson

Mr. Gibson, 59, has retinal scarring in his right eye due to trauma sustained during childhood. The best corrected visual acuity in his right eye is count-finger vision and in his left eye, 20/25. Following an examination in 2010, his ophthalmologist noted, “I believe he has sufficient vision to maintain his license as a commercial driver in any state.” Mr. Gibson reported that he has driven straight trucks for 20 years, accumulating 1 million miles and tractor-trailer combinations for 16 years, accumulating 1.1 million miles. He holds a Class A CDL from Florida. His driving record for the last 3 years shows no crashes and no convictions for moving violations in a CMV.

Rici W. Giesseman

Mr. Giesseman, 37, has had macular scarring in his right eye since birth. The best corrected visual acuity in his right eye is 20/200 and in his left eye, 20/20. Following an examination in 2010, his optometrist noted, “In my opinion this patient has sufficient vision to perform the driving tasks required to operate a commercial vehicle.” Mr. Giesseman reported that he has driven straight trucks for 20 years, accumulating 300,000 miles and tractor-trailer combinations for 8 years, accumulating 320,000 miles. He holds a Class A CDL from Ohio. His driving record for the last 3 years shows no crashes and no convictions for moving violations in a CMV.

George R. House

Mr. House, 53, has had amblyopia in his left eye since birth. The best corrected visual acuity in his right eye is 20/20 and in his left eye, 20/200. Following an examination in 2009, his optometrist noted, “In my opinion his vision is sufficient to perform the driving tasks required to operate a commercial vehicle.” Mr. House reported that he has driven straight trucks for 33 years, accumulating 330,000 miles and tractor-trailer combinations for 33 years, accumulating 627,000 miles. He holds a Class A CDL from Missouri. His driving record for the last 3 years shows no crashes and no convictions for moving violations in a CMV.

Michael A. Jabro

Mr. Jabro, 46, has had glaucoma in his right eye since 1998. The best corrected visual acuity in his right eye is 20/100 and in his left eye, 20/20. Following an examination in 2010, his optometrist noted, “I certify in my medical opinion that Mr. Jabro has sufficient vision to perform the driving tasks required to operate a commercial vehicle without any restrictions.” Mr. Jabro reported that he has driven straight trucks for 5 years, accumulating 575,000 miles and tractor-trailer combinations for 8 years, accumulating 920,000 miles. He holds a Class A CDL from Michigan. His driving record for the last 3 years shows no crashes and no convictions for moving violations in a CMV.

Thomas L. Jashurek, Jr.

Mr. Jashurek, 38, has had amblyopia in his right eye since birth. The best corrected visual acuity in his right eye is 20/200 and in his left eye, 20/15. Following an examination in 2010, his optometrist noted, “Thomas has sufficient vision to operate a commercial vehicle.” Mr. Jashurek reported that he has driven straight trucks for 14 years, accumulating 518,000 miles. He holds a Class A CDL from Pennsylvania. His driving record for the last 3 years shows no crashes and no convictions for moving violations in a CMV.

Michael M. Martinez

Mr. Martinez, 47, has had macular scarring and retinal detachment in his right eye due to a traumatic injury sustained in 2001. The best corrected visual acuity in his right eye is count-finger vision and in his left eye, 20/15. Following an examination in 2010, his optometrist noted, “Binocularly he has full peripheral vision and sufficient vision to perform the driving tasks required to operate a commercial vehicle.” Mr. Martinez reported that he has driven straight trucks for 16 years, accumulating 384,000 miles and tractor-trailer combinations for 16 years, accumulating 384,000 miles. He holds a Class A CDL from New Mexico. His driving record for the last 3 years shows no crashes and no convictions for moving violations in a CMV.

Robert L. McClain

Mr. McClain, 54, has had complete loss of vision in his right eye since childhood. The best corrected visual acuity in his left eye is 20/15. Following an examination in 2010, his optometrist noted, “I certify that his medical condition in my medical opinion provides still sufficient vision to perform the driving tasks required to operate a commercial vehicle.” Mr. McClain reported that he has driven straight trucks for 20 years, accumulating 2.5 million miles. He holds a Class B CDL from Michigan. His driving record for the last 3 years shows no crashes and no convictions for moving violations in a CMV.

Daniel E. Miller

Mr. Miller, 59, has had amblyopia in his right eye since birth. The best corrected visual acuity in his right eye is 20/400 and in his left eye, 20/20. Following an examination in 2010, his optometrist noted, “In my opinion, he is visually capable of safely operating a commercial motor vehicle.” Mr. Miller reported that he has driven straight trucks for 10 years, accumulating 1.2 million miles and tractor-trailer combinations for 29 years, accumulating 2.7 million miles. He holds a Class A CDL from Virginia. His driving record for the last 3 years shows no crashes and no convictions for moving violations in a CMV.

Buddy W. Myrick

Mr. Myrick, 71, has had macular degeneration in his right eye since 2002. The best corrected visual acuity in his right eye is 20/200 and in his left eye, 20/25. Following an examination in 2010, his optometrist noted, “In my opinion, Mr. Myrick has sufficient vision to perform the driving tasks required to operate a commercial vehicle.” Mr. Myrick reported that he has driven tractor-trailer combinations for 30 years, accumulating 3.2 million miles. He holds a Class A CDL from Texas. His driving record for the last 3 years shows no crashes and no convictions for moving violations in a CMV.

James L. Okonek

Mr. Okonek, 46, has had a prosthetic left eye since 2006. The best corrected visual acuity in his right eye is 20/20. Following an examination in 2010, his optometrist noted, “James has sufficient vision to perform the driving tasks to operate a commercial vehicle.” Mr. Okonek reported that he has driven straight trucks for 5 years, accumulating 50,000 miles, tractor-trailer combinations for 14 years, accumulating 1.8 million miles and buses for 5 years, accumulating 60,000 miles. He holds a Class D operator's license from Wisconsin. His driving record for the last 3 years shows no crashes and no convictions for moving violations in a CMV.

Aaron L. Paustian

Mr. Paustian, 42, has macular scarring in his right eye due to a traumatic injury sustained during childhood. The best corrected visual acuity in his right eye is 20/200 and in his left eye, 20/20. Following an examination in 2010, his optometrist noted, “In my medical opinion I believe that Mr. Aaron Paustian has sufficient vision to perform the driving tasks required to operate a commercial vehicle.” Mr. Paustian reported that he has driven straight trucks for 13 years, accumulating 36,504 miles and tractor-trailer combinations for 17 years, accumulating 1.8 million miles. He holds a Class A CDL from Iowa. His driving record for the last 3 years shows one crash, for which he was not cited, and no convictions for moving violations in a CMV.

Alan J. Reynaldos

Mr. Reynaldos, 45, has had amblyopia in his right eye since childhood. The best corrected visual acuity in his right eye is 20/400 and in his left eye, 20/20. Following an examination in 2009, his ophthalmologist noted, “Mr. Reynaldos has sufficient vision to operate a commercial vehicle.” Mr. Reynaldos reported that he has driven straight trucks for 8 years, accumulating 8,000 miles. He holds a Class D operator's license from New Jersey. His driving record for the last 3 years shows no crashes and no convictions for moving violations in a CMV.

Kenneth R. Riener

Mr. Riener, 48, has a prosthetic right eye due to a traumatic injury sustained in 1965. The best corrected visual acuity in his left eye is 20/15. Following an examination in 2010, his optometrist noted, “I certify that in my medical opinion Mr. Kenneth Raymond Riener has sufficient vision to perform the driving tasks required to operate a commercial vehicle.” Mr. Riener reported that he has driven straight trucks for 5 years, accumulating 90,000 miles. He holds a Class D operator's license from Montana. His driving record for the last 3 years shows no crashes and no convictions for moving violations in a CMV.

Charles L. Rill, Sr.

Mr. Rill, 60, has had amblyopia in his left eye since birth. The best corrected visual acuity in his right eye is 20/25 and in his left eye, 20/150. Following an examination in 2010, his optometrist noted, “He has sufficient vision to operate a commercial vehicle.” Mr. Rill reported that he has driven straight trucks for 42 years, accumulating 1 million miles and tractor-trailer combinations for 42 years, accumulating 4,200 miles. He holds a Class A CDL from Maryland. His driving record for the last 3 years shows no crashes and no convictions for moving violations in a CMV.

Jules M. Sancho, Jr.

Mr. Sancho, 50, has corneal scarring in his right eye due to a traumatic injury sustained during childhood. The best corrected visual acuity in his right eye is 20/200 and in his left eye, 20/20. Following an examination in 2010, his optometrist noted, “In my opinion, Mr. Sancho has the visual capability to operate a commercial vehicle.” Mr. Sancho reported that he has driven straight trucks for 18 years, accumulating 108,000 miles and tractor-trailer combinations for 15 years, accumulating 187,500 miles. He holds a Class D Chauffeur's license from Louisiana. His driving record for the last 3 years shows no crashes and no convictions for moving violations in a CMV.

Robert Smiley

Mr. Smiley, 53, has a prosthetic left eye due to a traumatic injury sustained in 2000. The best corrected visual acuity in his right eye is 20/20. Following an examination in 2009, his optometrist noted, “Mr. Smiley meets the requirements and has sufficient vision to perform the driving tasks required to operate a commercial vehicle in his right eye.” Mr. Smiley reported that he has driven straight trucks for 1½ years, accumulating 6,000 miles and tractor-trailer combinations for 18 years, accumulating 2.2 million miles. He holds a Class A CDL from New Mexico. His driving record for the last 3 years shows no crashes and one conviction for speeding in a CMV. He exceeded the speed limit by 10 mph.

Roger L. Sulfridge

Mr. Sulfridge, 60, has had complete loss of vision in his right eye since childhood due to a dense cataract. The best corrected visual acuity in his left eye, 20/20. Following an examination in 2010, his ophthalmologist noted, “I feel Mr. Sulfridge has sufficient vision to perform the driving tasks required to operate a commercial vehicle.” Mr. Sulfridge reported that he has driven straight trucks for 23 years, accumulating 287,500 miles and tractor-trailer combinations for 3 years, accumulating 75,000 miles. He holds a Class A CDL from Kentucky. His driving record for the last 3 years shows no crashes and no convictions for moving violations in a CMV.

Christopher M. Vincent

Mr. Vincent, 32, has had complete loss of vision his left eye since childhood due to a traumatic injury. The best corrected visual acuity in his right eye is 20/20. Following an examination in 2009, his optometrist noted, “Mr. Vincent is a one eyed driver with a very healthy right eye, normal color vision and normal peripheral vision. I do not consider this significant to restrict his operation of a commercial vehicle.” Mr. Vincent reported that he has driven straight trucks for 4 years, accumulating 528,000 miles and tractor-trailer combinations for 1 year, accumulating 22,000 miles. He holds a Class A CDL from North Carolina. His driving record for the last 3 years shows no crashes and one conviction for a moving violation in a CMV. He was cited for an improper stop on a highway.

Derik T. Winebrenner

Mr. Winebrenner, 26, has had complete loss of vision his right eye since birth due to optic nerve hypoplasia. The best corrected visual acuity in his left eye is 20/20. Following an examination in 2010, his optometrist noted, “I believe that Derik Winebrenner has more than adequate visual skills to perform the duties of a commercial vehicle operator.” Mr. Winebrenner reported that he has driven straight trucks for 10 years, accumulating 200,000 miles and tractor-trailer combinations for 10 years, accumulating 275,000 miles. He holds a Class A CDL from Ohio. His driving record for the last 3 years shows no crashes and no convictions for moving violations in a CMV.

Curtis L. Wolff

Mr. Wolff, 47, has had loss of vision his left eye since 1981 due to cataract surgery and retinal surgery. The best corrected visual acuity in his right eye is 20/20 and in his left eye, hand-motion vision. Following an examination in 2010, his optometrist noted, “In my opinion, Curtis has sufficient vision to perform the driving tasks required to operate a commercial vehicle.” Mr. Wolff reported that he has driven straight trucks for 25 years, accumulating 1.2 million miles and tractor-trailer combinations for 2 years, accumulating 140,000 miles. He holds a Class D Chauffeur's license from Louisiana. His driving record for the last 3 years shows no crashes and no convictions for moving violations in a CMV.

Robert L. Zebrowski

Mr. Zebrowski, 68, has had amblyopia in his right eye since birth. The best corrected visual acuity in his right eye is 20/50 and in his left eye, 20/20. Following an examination in 2009, his optometrist noted, “I believe Mr. Zebrowski is safe to operate a commercial vehicle.” Mr. Zebrowski reported that he has driven straight trucks for 6 years, accumulating 150,000 miles and tractor-trailer combinations for 27 years, accumulating 499,500 miles. He holds a Class A CDL from Wisconsin. His driving record for the last 3 years shows no crashes and no convictions for moving violations in a CMV.

Request for Comments

In accordance with 49 U.S.C. 31136(e) and 31315, FMCSA requests public comment from all interested persons on the exemption petitions described in this Notice. The Agency will consider all comments received before the close of business July 16, 2010. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: June 10, 2010.
Larry W. Minor,
Associate Administrator for Policy and Program Development.

[FR Doc. 2010-14537 Filed 6-15-10; 8:45 am]

BILLING CODE 4910-EX-P